ENVIRONMENTAL PROTECTION AGENCY

40 CFR Parts 152, 156, 167, 168, 169, 172, and 174

[EPA-HQ-OPP-2006-1003; FRL-8119-5]

Plant-Incorporated Protectants; Potential Revisions to Current Production Regulations; Notice of Public Meetings

AGENCY: Environmental Protection Agency (EPA).

ACTION: Advance Notice of Proposed Rulemaking (ANPRM); Announcement of Public Meetings.

SUMMARY: EPA is announcing two public meetings to be held during the comment period of the ANPRM, entitled Plant-Incorporated Protectants; Potential Revisions to Current Production Regulations. The ANPRM announces EPA’s intention to develop and propose amendments to existing regulations affecting producers of plant-incorporated protectants (PIPs), a type of pesticide. The Agency is considering amendments to the existing regulations, which were written primarily for producers of “traditional” pesticides, because PIPs are unlike other types of pesticides currently regulated under the Federal Insecticide, Fungicide, and Rodenticide Act (FIFRA). Given that PIPs are part of a living organism, they can be replicated and potentially produced anywhere a plant containing the PIP grows. The purpose of the public meetings is to further communicate the regulatory issues described in the ANPRM, and to provide an opportunity for a public dialogue and exchange of information on these and related issues. The meetings will be organized around the questions and issue posed in the ANPRM.

DATES: Meetings: The Chicago, IL meeting will be held on May 2, 2007, from noon to 4:30 p.m., CDT. The Arlington, VA meeting will be held on May 22, 2007, from noon to 4:30 p.m., EDT.

Participation: To make oral comment and/or a presentation at these meetings, submit a request to the person listed under FOR FURTHER INFORMATION CONTACT no later than 10 days before the meeting that you plan to attend. See also Unit III.A. of the SUPPLEMENTARY INFORMATION.

Special accommodations: For information on access or services for individuals with disabilities, and to request accommodation of a disability, please contact the person listed under FOR FURTHER INFORMATION CONTACT, preferably at least 10 days prior to the meeting, to give EPA as much time as possible to process your request.

ADDRESSES: The meetings will be held in Rm. 331, EPA Region 5, Ralph Metcalfe Federal Bldg., 77 West Jackson Blvd., Chicago, IL 60604 and in Rm. S-4370, One Potomac Yard (South Bldg.), 2777 S. Crystal Dr., Arlington, VA 22202.

FOR FURTHER INFORMATION CONTACT: Stephen J. Howie, Office of Science Coordination and Policy, Environmental Protection Agency, 1200 Pennsylvania Ave., NW., Washington, DC 20460-0001; telephone number: (202) 564-4146; fax number: (202) 564-8502; e-mail address: howie.stephen@epa.gov.

SUPPLEMENTARY INFORMATION:

I. General Information

A. Does this Action Apply to Me?

This action is directed to the public in general. This action may, however, be of interest to you if you manufacture, import, process, or use PIPs. In order to identify potentially impacted industries the analysis relies on North American Industrial Classification System (NAICS) codes. Potentially affected entities may include, but are not limited to:

• Pesticide and Other Agricultural Chemical Manufacturing (NAICS code 325320). This industry comprises establishments that are producing PIPs intended for distribution and sale as pesticides.

• Crop Production (NAICS code 111). These are establishments such as farms, orchards, groves, greenhouses, and nurseries, primarily engaged in growing crops, plants, vines, or trees and their seeds.

• Colleges, Universities, and Professional Schools (NAICS code 611310). This industry comprises establishments primarily engaged in furnishing academic courses and granting degrees at baccalaureate or graduate levels. Furthermore, they may comprise establishments where research on PIPs occurs and where PIPs may be grown.

• Research and Development in the Physical, Engineering, and Life Sciences (NAICS code 54171). This industry comprises establishments primarily engaged in conducting research and experimental development in the physical, engineering, or life sciences, such as agriculture, environmental, biology, botany, biotechnology, forests, and other allied subjects.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established a docket for the ANPRM under docket identification (ID) number EPA-HQ-OPP-2006-1003. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document or the ANPRM electronically through the EPA Internet under the “Federal Register” listings at http://www.epa.gov/fedrgstr.

II. Background

The ANPRM, entitled Plant-Incorporated Protectants; Potential Revisions to Current Production Regulations published in the Federal Register of April 4, 2007 (72 FR 16312) (FRL-8118-2) provides the basis for the public meetings described in this document and contains the background information describing the nature of the issue and the areas where EPA is considering amending regulations. That document is available in the docket established for this action as described in Unit I.B.

Submit public comments on the ANPRM published in the Federal Register of April 4, 2007 (72 FR 16312) (FRL-8118-2) to regulations.gov using the methods listed under ADDRESSES in that document. If the oral comments are different from previously submitted comments on the ANPRM, please also submit a copy of the comments that will be presented at the meeting to the docket using the submission methods under ADDRESSES in the ANPRM.

III. How Can I Participate in these Meetings?

A. Oral Comments and/or Presentations

The Agency encourages each individual or group wishing to make oral comment and/or a presentation to submit the request to the person listed under FOR FURTHER INFORMATION CONTACT no later than 10 days before the meeting that the person wishes to attend, in order to be included on the meeting agenda. Requests to present oral comments and/or presentations will be accepted until the date of the meeting and, to the extent that time permits the presentation of oral comments and/or presentations at the meeting by interested persons who have not previously submitted a request will be allowed. The request should identify the name of the individual making the presentation, the organization (if any) the individual will represent, and any requirements for audiovisual equipment (e.g., overhead projector, 35 mm projector, chalkboard). Oral comments and/or presentations will be limited to approximately 5 minutes unless prior arrangements have been made.

B. Seating

Seating at the meetings will be on a first-come basis.

List of Subjects in 40 CFR Parts 152, 156, 167, 168, 169, 172, and 174

Environmental protection, Pesticides and pests, Plant-incorporated protectants (PIPs), Reporting and recordkeeping requirements.

Dated: March 30, 2007.
James Jones,
Acting Assistant Administrator, Office of Prevention, Pesticides and Toxic Substances.

[FR Doc. E7-6621 Filed 4-10-07; 8:45 am]

BILLING CODE 6560-50-S